DEPARTMENT OF ENERGY

Federal Energy Regulatory Commission

Combined Notice of Filings

Take notice that the Commission has received the following Natural Gas Pipeline Rate and Refund Report filings:

Filings Instituting Proceedings

Docket Numbers: RP25-595-000.

Applicants: El Paso Natural Gas Company, L.L.C.

Description: 4(d) Rate Filing: Negotiated Rate Agreement Update (Hartree Mar 25) to be effective 3/1/2025.

Filed Date: 2/26/25.

Accession Number: 20250226-5161.

Comment Date: 5 p.m. ET 3/10/25.

Docket Numbers: RP25-596-000.

Applicants: El Paso Natural Gas Company, L.L.C.

Description: 4(d) Rate Filing: Negotiated Rate Agreement Update (Sempra Mar 2025) to be effective 3/1/2025.

Filed Date: 2/26/25.

Accession Number: 20250226-5220.

Comment Date: 5 p.m. ET 3/10/25.

Docket Numbers: RP25-597-000.

Applicants: UGI Sunbury, LLC.

Description: Annual Report Retainage Adjustment of UGI Sunbury, LLC.

Filed Date: 2/26/25.

Accession Number: 20250226-5221.

Comment Date: 5 p.m. ET 3/10/25.

Docket Numbers: RP25-598-000.

Applicants: UGI Mt. Bethel Pipeline Company, LLC.

Description: Annual Report of Retainage Adjustment of UGI Mt. Bethel Pipeline Company, LLC.

Filed Date: 2/26/25.

Accession Number: 20250226-5223

Comment Date: 5 p.m. ET 3/10/25.

Docket Numbers: RP25-599-000.

Applicants: El Paso Natural Gas Company, L.L.C.

Description: 4(d) Rate Filing: Negotiated Rate Agreements Update (Pioneer Apr-Jun 2025) to be effective 4/1/2025.

Filed Date: 2/26/25.

Accession Number: 20250226-5228.

Comment Date: 5 p.m. ET 3/10/25.

Docket Numbers: RP25-600-000.

Applicants: Equitrans, L.P.

Description: 4(d) Rate Filing: AVC Storage Loss Retainage Factor—2025 to be effective 4/1/2025.

Filed Date: 2/27/25.

Accession Number: 20250227-5000.

Comment Date: 5 p.m. ET 3/11/25.

Docket Numbers: RP25-601-000.

Applicants: Equitrans, L.P.

Description: 4(d) Rate Filing: 3-1-2025 Formula Based Negotiated Rates to be effective 3/1/2025.

Filed Date: 2/27/25.

Accession Number: 20250227-5001.

Comment Date: 5 p.m. ET 3/11/25.

Docket Numbers: RP25-602-000.

Applicants: Midcontinent Express Pipeline LLC.

Description: 4(d) Rate Filing: MEP Cashout Filing and Report of Operational Purchases and Sales February 2025 to be effective 4/1/2025.

Filed Date: 2/27/25.

Accession Number: 20250227-5051.

Comment Date: 5 p.m. ET 3/11/25.

Docket Numbers: RP25-603-000.

Applicants: Iroquois Gas Transmission System, L.P.

Description: 4(d) Rate Filing: 2.27.25 Negotiated Rates—Emera Energy Services, Inc. R-2715-105 to be effective 3/1/2025.

Filed Date: 2/27/25.

Accession Number: 20250227-5055.

Comment Date: 5 p.m. ET 3/11/25.

Docket Numbers: RP25-604-000.

Applicants: Iroquois Gas Transmission System, L.P.

Description: 4(d) Rate Filing: 2.27.25 Negotiated Rates—Mercuria Energy America, LLC R-7540-02 to be effective 3/1/2025.

Filed Date: 2/27/25.

Accession Number: 20250227-5061.

Comment Date: 5 p.m. ET 3/11/25.

Docket Numbers: RP25-605-000.

Applicants: Elba Express Company, L.L.C.

Description: 4(d) Rate Filing: EEC NRA Filing February 2025 to be effective 3/1/2025.

Filed Date: 2/27/25.

Accession Number: 20250227-5067.

Comment Date: 5 p.m. ET 3/11/25.

Docket Numbers: RP25-606-000.

Applicants: Columbia Gulf Transmission, LLC.

Description: 4(d) Rate Filing: SWN Energy Name Change to Expand Energy Agmts to be effective 3/1/2025.

Filed Date: 2/27/25.

Accession Number: 20250227-5076.

Comment Date: 5 p.m. ET 3/11/25.

Docket Numbers: RP25-607-000.

Applicants: Guardian Pipeline, L.L.C.

Description: 4(d) Rate Filing: Electric Power Cost Recovery Surcharge Adjustment—Spring 2025 to be effective 4/1/2025.

Filed Date: 2/27/25.

Accession Number: 20250227-5093.

Comment Date: 5 p.m. ET 3/11/25.

Docket Numbers: RP25-608-000.

Applicants: Columbia Gas Transmission, LLC.

Description: 4(d) Rate Filing: SWN Energy Name Change to Expand Energy Agmts to be effective 3/1/2025.

Filed Date: 2/27/25.

Accession Number: 20250227-5094.

Comment Date: 5 p.m. ET 3/11/25.

Docket Numbers: RP25-609-000.

Applicants: Midwestern Gas Transmission Company.

Description: 4(d) Rate Filing: Annual Fuel Retention Percentage Adjustment—2025 Rate to be effective 4/1/2025.

Filed Date: 2/27/25.

Accession Number: 20250227-5111.

Comment Date: 5 p.m. ET 3/11/25.

Docket Numbers: RP25-610-000.

Applicants: Eastern Shore Natural Gas Company.

Description: 4(d) Rate Filing: Capital Cost Surcharge True Up Eff. 4/1/25 to be effective 4/1/2025.

Filed Date: 2/27/25.

Accession Number: 20250227-5129.

Comment Date: 5 p.m. ET 3/11/25.

Docket Numbers: RP25-611-000.

Applicants: El Paso Natural Gas Company, L.L.C.

Description: 4(d) Rate Filing: Negotiated Rate Agreement Filing (AEPCO) to be effective 3/1/2025.

Filed Date: 2/27/25.

Accession Number: 20250227-5167.

Comment Date: 5 p.m. ET 3/11/25.

Docket Numbers: RP25-612-000.

Applicants: El Paso Natural Gas Company, L.L.C.

Description: 4(d) Rate Filing: Non-Conforming Agreements Update (SRP 2025) to be effective 3/1/2025.

Filed Date: 2/27/25.

Accession Number: 20250227-5168.

Comment Date: 5 p.m. ET 3/11/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 27, 2025.
Carlos D. Clay,
Deputy Secretary.

[FR Doc. 2025-03534 Filed 3-4-25; 8:45 am]

BILLING CODE 6717-01-P